DEPARTMENT OF COMMERCE

International Trade Administration

[C-533-063]

Certain Iron-Metal Castings from India: Final Results of Countervailing Duty Administrative Review

AGENCY: Import Administration, International Trade Administration, Department of Commerce.

ACTION: Notice of final results of countervailing duty administrative review.

SUMMARY: On November 12, 1999, the Department of Commerce (the Department) published in the Federal Register its preliminary results of administrative review of the countervailing duty order on certain iron-metal castings from India for the period January 1, 1997 through December 31, 1997 (64 FR 61592). The Department has now completed this administrative review in accordance with section 751(a) of the Tariff Act of 1930, as amended (the Act).

We have not made changes in the subsidy calculations from the preliminary results. For information on the net subsidy for each reviewed company, and for all non-reviewed companies, see the Final Results of Review section of this notice. We will instruct the U.S. Customs Service (Customs) to assess countervailing duties as detailed in the Final Results of Review section of this notice.

EFFECTIVE DATE: May 18, 2000.

FOR FURTHER INFORMATION CONTACT: Robert Copyak, Import Administration, International Trade Administration, U.S. Department of Commerce, 14th Street and Constitution Avenue, N.W., Room 4012, Washington, D.C. 20230; telephone: (202) 482-2786.

SUPPLEMENTARY INFORMATION:

Applicable Statute and Regulations

Unless otherwise indicated, all citations to the statute are references to the provisions of the Tariff Act of 1930, as amended by the Uruguay Round Agreements Act (URAA) effective January 1, 1995. The Department is conducting this administrative review in accordance with section 751(a) of the Act. All citations to the Department's regulations reference 19 CFR part 351 (1998), unless otherwise indicated. Because the request for this administrative review was filed before January 1, 1999, the Department's substantive countervailing duty regulations, which were published in the Federal Register on November 25, 1998 (see CVD Regulations, 63 FR 65348), do not govern this review.

Background

On November 12, 1999, the Department published the preliminary results of administrative review of the countervailing duty order on certain iron metal castings from India. See Notice of Preliminary Results and Partial Recission of Countervailing Duty Administrative Review: Certain Iron-Metal Castings from India, 64 FR 61592 (November 12, 1999) (Preliminary Results). Pursuant to 19 CFR 351.213(b), this review covers only those producers/exporters of the subject merchandise for which a review was specifically requested. The producers/exporters of the subject merchandise for which this review was requested are:

AGV Exports,

Agarwal Hardware,

Ambika Exports,

Bengal Export Corporation,

Bengal Iron Corporation,

Bhagyadevi Factory,

Calcutta Ferrous Ltd.,

Carnation Enterprise Pvt. Ltd.,

Carnation Industries,¹

¹ Carnation Industries was formerly Carnation Enterprise Pvt. Ltd.

Commex Corporation,

Crescent Foundry Co. Pvt. Ltd.,

Delta Enterprises,

Delta Corporation Ltd.,

Dinesh Brothers Pvt. Ltd.,

Dugar International,

Edcons Castings,

Essen International,

Ganapati Suppliers,

Global Intertrade,

Hargolal & Sons,

Hindustahn Malleables & Forgings Ltd.,

J.K. Udyog,

Kajaria Iron Castings Ltd.,²

² Kajaria Iron Castings Ltd. was formerly Kajaria Iron Castings Pvt. Ltd.

Kajaria Iron Castings Pvt. Ltd.,

Kauntia Exports,

Kejriwal Iron & Steel Works,

Kiswok Industries Pvt. Ltd.,³

³ Kiswok Industries Pvt. Ltd. was formerly Kejriwal Iron & Steel Works.

Metflow Corporation Pvt. Ltd.,

Nandikeshwari Iron Foundry Pvt. Ltd.,

Orissa Metal Industries,

Overseas Iron Foundry Pvt. Ltd.,

Rangilal & Sons,

RBA Exports,

R.B. Agarwalla & Company,

R.B. Agarwalla & Company Pvt. Ltd.,

RR Enterprise,

RSI Limited,

RS Ispat Pvt. Ltd.,

Samitex Corporation,

Sammitex,

Serampore Industries Pvt. Ltd.,

Shakti Isabgel Industries,

Shree Hanuman Foundry & Engineering Co. Ltd.,

Shree Rama Enterprises,

Shree Uma Foundries Pvt. Ltd.,

Siko Exports,

Sitaram Maohogarhia & Sons Pvt. Ltd.,

Sociedad J.B. Nagar,

SSL Exports,

Super Iron Foundry,

Tara Engineering Works,

Thames Engineering,

Tirupati International Pvt. Ltd.,

Tirupati Trading Company,

Trident Industries,

Trident International,

Uma Iron & Steel, and

Victory Castings Ltd.

The following companies, for which a review was requested, certified that they either do not produce or did not export the subject merchandise to the United States during the period of review (POR): AGV Exports, Agarwal Hardware Works & Foundries Pvt. Ltd., Ambika Exports, Bengal Iron Corporation, Bhagyadevi Factory, Delta Enterprises, Edcons Castings Pvt. Ltd., Essen International, Hargolal & Sons, Hindustahn Malleables & Forgings Ltd., J.K. Udyog, Kauntia Exports, Metflow Corporation Pvt. Ltd., Orissa Metal Industries, Overseas Iron Foundry Pvt. Ltd., RBA Exports, R.B. Agarwalla & Company Pvt. Ltd., RR Enterprise, RS Ispat Pvt. Ltd., Samitex Corporation, Sammitex, Shree Hanuman Foundry & Engineering Co. Ltd., Shree Rama Enterprises, Shree Uma Foundries Pvt. Ltd., Siko Exports, Sitaram Madhogarhia & Sons Pvt. Ltd., Tara Engineering Works, Tirupati International Pvt. Ltd., and Tirupati Trading Company. In addition, the Government of India (GOI) certified that the following companies either do not exist or do not export the subject merchandise to the United States: Dugar International, Global Intertrade, Shakti Isabgel Industries, Sociedad J.B. Nagar, and Trident Industries. Therefore, in accordance with section 351.213(d)(3) of the Department's regulations, we rescinded the review with respect to these companies at the time of the preliminary results.

See Preliminary Results, 64 FR at 61592

We invited interested parties to comment on the preliminary results. On December 13, 1999, case briefs were submitted by the Engineering Export Promotion Council of India and the exporters of certain iron-metal castings from India (respondents), and the Municipal Castings Fair Trade Council and its members (petitioners). On December 20, 1999, rebuttal briefs were submitted by the respondents and petitioners. None of the interested parties requested a hearing. This review covers 29 programs.

Scope of the Review

Imports covered by this administrative review are shipments of Indian manhole covers and frames, clean-out covers and frames, and catch basin grates and frames. These articles are commonly called municipal or public works castings and are used for access or drainage for public utility, water, and sanitary systems. During the review period, such merchandise was classifiable under the Harmonized Tariff Schedule (HTS) item numbers 7325.10.0010 and 7325.10.0050. The HTS item numbers are provided for convenience and Customs purposes. The written description remains dispositive.

Verification

As provided in section 782(i) of the Act, we verified information submitted by the GOI and certain producers/exporters of the subject merchandise. We followed standard verification procedures, including meeting with government and company officials and examining relevant accounting and financial records and other original source documents. Our verification results, which were issued on September 9, 1999, are outlined in the verification reports, the public versions of which are on file in the Central Records Unit (CRU), Room B-099 of the Main Commerce Building.

Analysis of Comments Received

All issues raised in the case and rebuttal briefs by parties to this administrative review are addressed in the “Issues and Decision Memorandum” (Decision Memorandum) from Holly A. Kuga, Acting Deputy Assistant Secretary, Import Administration, to Troy H. Cribb, Acting Assistant Secretary for Import Administration, dated concurrent with this notice, which is hereby adopted by this notice. A list of issues which parties have raised and to which we have responded, all of which are addressed in the Decision Memorandum, is attached to this notice as Appendix I. Parties can find a complete discussion of all issues raised in this review and the corresponding recommendations in this public memorandum which is on file in the CRU. In addition, a complete version of the Decision Memorandum can be accessed directly on the web at www.ita.doc.gov/import_admin/records/frn. The paper copy and electronic version of the Decision Memorandum are identical in content.

Use of Facts Available

For a discussion of our application of facts available, see the “Facts Available” section of the Decision Memorandum, which is on file in the CRU and available on the web at www.ita.doc.gov/import_admin/records/frn.

Changes Since the Preliminary Results

We have not made any changes to the subsidy rate calculations from the preliminary results.

Final Results of Review

In accordance with 19 CFR 351.221(b)(4)(i), we calculated an individual subsidy rate for each producer/exporter subject to this review. We will instruct Customs to assess countervailing duties as indicated below on all appropriate entries. For the period January 1, 1997 through December 31, 1997, we determine the net subsidy rates for the reviewed companies to be as follows:

Producers/exporters | Ad valorem rates (percentages)
Bengal Export Corporation | 8.35
Calcutta Ferrous Ltd | 9.28
Calcutta Iron Foundry | 0.42
Carnation Industries Ltd | 0.72
Commex Corporation | 2.71
Crescent Foundry Co. Pvt. Ltd | 0.84
Delta Corporation Ltd | 27.65
Dinesh Brothers (Pvt.) Ltd | 1.71
Ganapati Suppliers Pvt. Ltd | 5.17
Kajaria Iron Castings Ltd | 5.19
Kiswok Industries Pvt. Ltd | 14.90
Nandikeshwari Iron Foundry Pvt. Ltd | 13.72
Rangilal & Sons | 0.00
R.B. Agarwalla & Company | 3.56
RSI Limited | 0.90
Seramapore Industries Pvt. Ltd | 1.51
SSL Exports | 27.65
Super Iron Foundry | 1.08
Thames Engineering | 27.65
Trident International | 27.65
Uma Iron & Steel Company | 2.10
Victory Castings Ltd | 1.88

Revocation of CVD Order

As a result of the International Trade Commission's determination that revocation of this countervailing duty order would not likely lead to continuation or recurrence of material injury to an industry in the United States in the reasonably foreseeable future, the Department, pursuant to section 751(d)(2) of the Act, revoked the countervailing duty order on iron metal castings from India. See Revocation of Countervailing Duty Order: Iron Metal Castings from India, 64 FR 61602 (November 12, 1999). Pursuant to section 751(c)(6)(A)(iv) of the Act and 19 CFR 351.222(i)(2)(ii), the effective date of revocation was January 1, 2000. Accordingly, the Department instructed Customs to discontinue suspension of liquidation and collection of cash deposits on entries of the subject merchandise entered or withdrawn from warehouse on or after January 1, 2000. The Department, however, will conduct administrative reviews of subject merchandise entered prior to the effective date of revocation in response to appropriately filed requests for review.

Administrative Protective Order

This notice also serves as a final reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This administrative review and notice are in accordance with section 751(a)(1) of the Act (19 U.S.C. 1675(a)(1)).

Dated: May 10, 2000.
Troy H. Cribb,
Acting Assistant Secretary for Import Administration.

Appendix I—Issues Addressed in the Decision Memorandum

Methodology and Background Information

I. Applicable Statute and Regulations

II. Facts Available

III. Benchmark Rate

Analysis of Programs

I. Programs Conferring Subsidies

A. Pre-Shipment Export Financing

B. Post-Shipment Export Financing

C. Exemption of Export Credit from Interest Taxes

D. Income Tax Deductions Under Section 80 HHC

E. Import Mechanisms (Sale of Licenses)

F. Passbook Scheme

G. Duty Entitlement Passbook Scheme

II. Programs Determined To Be Not Countervailable

A. Long-Term Financing from “All-India Development Banks”

B. Long-Term Loan from the West Bengal Industrial Finance Corporation

C. Leasing of Land from the Regional Government of West Bengal

III. Programs Found To Be Not Used

A. West Bengal Incentive Scheme 1993

1. State Capital Investment Subsidy

B. Market Development Assistance

C. Rediscounting of Export Bills Abroad

D. International Price Reimbursement Scheme

E. Cash Compensatory Support Program

F. Programs Operated by the Small Industries Development Bank of India

G. Export Promotion Replenishment Scheme

H. Export Promotion Capital Goods Scheme

I. Benefits for Export Oriented Units and Export Processing Zones

J. Special Imprest Licenses

K. Special Benefits

L. Duty Drawback on Excise Taxes

M. Payment of Premium Against Advance Licenses

N. Pre-Shipment Export Financing in Foreign Currency

O. Subsidies Provided by the State of Orissa

P. Advance Licenses

IV. Other Program Examined

A. Bridge Loan

V. Programs Found Not To Exist

A. State Value-Added Tax “Set-Off” Program

B. Interest Rate Surcharge Exemption

VI. Analysis of Comments

A. Cash Credit Benchmark Interest Rate

B. Leasing of Land

C. Long-Term Financing

D. Benefit Provided Under the Passbook Scheme

E. Section 80HHC—Tax Savings Relating to Subject Castings

F. Double-Counting of Subsidies

G. Overdue Penalty Interest Paid

[FR Doc. 00-12580 Filed 5-17-00; 8:45 am]

BILLING CODE 3510-DS-P